GENERAL SERVICES ADMINISTRATION

41 CFR Parts 300-3, 301-2, 301-10, 301-11, 301-52, 301-70, and 301-71

[FTR Amendment 2011-03; FTR Case 2011-301; Docket 2011-0018, Sequence 1]

RIN 3090-AJ11

Federal Travel Regulation; Per Diem, Miscellaneous Amendments

AGENCY: Office of Governmentwide Policy, General Services Administration (GSA).

ACTION: Interim rule with request for comments.

SUMMARY: GSA is amending the Federal Travel Regulation (FTR) by changing, updating, and clarifying various provisions of Chapters 300 and 301 regarding temporary duty (TDY) travel. These changes include adjusting the definition of incidental expenses; clarifying necessary deduction amounts from the meals and incidental expense (M&IE) reimbursement on travel days; extending agencies the authority to issue blanket actual expense approval for TDY travel during Presidentially-Declared Disasters; and updating other miscellaneous provisions.

DATES: Effective Date: September 7, 2011.

Comment Due Date: Interested parties should submit written comments to the Regulatory Secretariat by November 7, 2011 to be considered in the formulation of a final rule.

ADDRESSES: Submit comments identified by FTR case 2011-301 by any of the following methods:

• Federal eRulemaking Portals: http://www.regulations.gov. Submit comments via the Federal eRulemaking portal by inputting “FTR Case 2011-301” under the heading “Enter Keyword or ID” and selecting “Search.” Select the link “Submit a Comment” that corresponds with “FTR Case 2011-301.” Follow the instructions provided at the “Submit a Comment” screen. Please include your name, company name (if any), and “FTR Case 2011-301” on your attached document.

• Fax: 202-501-4067.

• Mail: General Services Administration, Regulatory Secretariat (MVCB), Attn: Hada Flowers, 1275 First Street, NE., 7th Floor, Washington, DC 20417.

Instructions: Please submit comments only and cite FTR case 2011-301 in all correspondence related to this case. All comments received will be posted without change to http://www.regulations.gov, including any personal information provided.

FOR FURTHER INFORMATION CONTACT: The Regulatory Secretariat (MVCB), 1275 First St., NE., Washington, DC 20417, (202) 501-4755, for information pertaining to status or publication schedules. For clarification of content, contact Mr. Cy Greenidge, Program Analyst, Office of Governmentwide Policy, at (202) 219-2349. Please cite FTR Amendment 2011-03; FTR case 2011-301.

SUPPLEMENTARY INFORMATION:

A. Background

GSA reviewed the FTR for accuracy and currency and is consequently publishing this amendment to update certain sections of the regulation pertaining to definitions, Web addresses, meal deductions, miscellaneous expenses, and other travel-related clarifications and updates. This amendment also adds a section that permits agencies to issue blanket actual expense authorizations for any employee who performs TDY travel in an area subject to a Presidentially-Declared Disaster.

Accordingly, this interim rule amends the FTR by:

1. Section 300-3.1—Revising the term “Incidental expenses” under the definition for “Per diem allowance.” These changes permit reimbursement of fees and tips, exclude mailing costs associated with filing travel vouchers and charge card bill payments, and remove the current transportation reimbursement as this expense is reimbursable via separate provisions in FTR part 301-10.

2. Section 301-2.5—Referencing the new blanket actual expense authorization pursuant to § 301-70.201.

3. Section 301-10.421—Updating the heading to include valet parking attendants.

4. Section 301-11.6—Updating regulatory references and Web address information in the table pertaining to maximum per diem rates and actual expense rates.

5. Section 301-11.7—Changing the term “lodging location” to “lodging facility” in determining maximum per diem reimbursement rates.

6. Section 301-11.18—Indicating that for Government-provided meals on travel days, the entire allocated meal amount must be deducted from the decreased 75 percent rate.

7. Section 301-11.26—Revising to focus on how to request a review of a location's per diem rate.

8. Section 301-11.29—Updating the Web address for state tax exemption information.

9. Section 301-11.30—Referencing the new blanket actual expense authorization pursuant to § 301-70.201.

10. Section 301-11.300—Revising “natural disasters” to “natural or manmade disasters” and adding Presidentially-Declared Disasters to the list of special events warranting actual expense reimbursement.

11. Section 301-11.301—Referencing the new blanket actual expense authorization pursuant to § 301-70.201.

12. Section 301-11.302—Referencing the new blanket actual expense authorization pursuant to § 301-70.201.

13. Section 301-52.4—Removing the reference to a “fixed reduced per diem allowance.”

14. Section 301-70.200—Referencing the new blanket actual expense authorization pursuant to § 301-70.201.

15. Section 301-70.201—Adding a new section which gives agencies the authority to issue a blanket authorization for actual expense reimbursement in the event of a Presidentially-Declared Disaster.

16. Section 301-71.105—Referencing the new blanket actual expense authorization pursuant to § 301-70.201.

B. Executive Orders 12866 and 13563

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This is not a significant regulatory action and, therefore, was not subject to review under Section 6(b) of Executive Order 12866, Regulatory Planning and Review, dated September 30, 1993. This rule is not a major rule under 5 U.S.C. 804.

C. Regulatory Flexibility Act

This interim rule will not have a significant economic impact on a substantial number of small entities within the meaning of the Regulatory Flexibility Act, 5 U.S.C. 601, et seq., because the revisions are not considered substantive. This interim rule is also exempt from the Regulatory Flexibility Act per 5 U.S.C. 553(a)(2) because it applies to agency management. However, this interim rule is being published to provide transparency in the promulgation of Federal policies.

D. Paperwork Reduction Act

The Paperwork Reduction Act does not apply because the changes to the FTR do not impose recordkeeping or information collection requirements, or the collection of information from offerors, contractors, or members of the public that require the approval of the Office of Management and Budget (OMB) under 44 U.S.C. 3501, et seq.

E. Small Business Regulatory Enforcement Fairness Act

This interim rule is also exempt from Congressional review prescribed under 5 U.S.C. 801 since it relates solely to agency management and personnel.

List of Subjects in 41 CFR Parts 300-3, 301-2, 301-10, 301-11, 301-52, 301-70, and 301-71

Administrative practices and procedures, Government employees, Travel and per diem expenses.

Dated: March 14, 2011.
Martha Johnson,
Administrator of General Services.

For the reasons set forth in the preamble, pursuant to 5 U.S.C. 5701-5709, GSA amends 41 CFR parts 300-3, 301-2, 301-10, 301-11, 301-52, 301-70, and 301-71 as set forth below:

PART 300-3—GLOSSARY OF TERMS

1. The authority citation for 41 CFR part 300-3 continues to read as follows:

Authority: 5 U.S.C. 5707; 40 U.S.C. 121(c); 49 U.S.C. 40118; 5 U.S.C. 5738; 5 U.S.C. 5741-5742; 20 U.S.C. 905(a); 31 U.S.C. 1353; E.O. 11609, as amended; 3 CFR, 1971-1975 Comp., p. 586, Office of Management and Budget Circular No. A-126, revised May 22, 1992.

2. Amend § 300-3.1 under “Per diem allowance”, by revising paragraph (c) to read as follows:

§ 300-3.1 What do the following terms mean?

* * * * *

Per diem allowance— * * *

* * * * *

(c) Incidental expenses. Fees and tips given to porters, baggage carriers, hotel staff, and staff on ships.

* * * * *

PART 301-2—GENERAL RULES

3. The authority citation for 41 CFR part 301-2 continues to read as follows:

Authority: 5 U.S.C. 5707; 31 U.S.C. 1353; 49 U.S.C. 40118.

§ 301-2.5 [Amended]

4. Amend § 301-2.5 paragraph (j) by removing “expense;” and adding “expense, unless your agency has issued a blanket actual expense authorization under § 301-70.201;” in its place.

PART 301-10—TRANSPORTATION EXPENSES

5. The authority citation for 41 CFR part 301-10 continues to read as follows:

Authority: 5 U.S.C. 5707, 40 U.S.C. 121(c); 49 U.S.C. 40118, OMB Circular No. A-126, revised May 22, 1992.

6. Amend § 301-10.421 by revising the heading to read as follows:

§ 301-10.421 How much will my agency reimburse me for a tip to a taxi, shuttle service, courtesy transportation driver, or valet parking attendant?

* * * * *

PART 301-11—PER DIEM EXPENSES

7. The authority citation for 41 CFR part 301-11 continues to read as follows:

Authority: 5 U.S.C. 5707.

§ 301-11.6 [Amended]

8. In § 301-11.6:

a. Amend the table in paragraph (a), third column, by removing “41 CFR 301-11.303 and 301-11.305” and adding “41 CFR 301-11.300—301-11.306” in its place.

b. Amend the table in paragraph (b), third column, by removing “https://secureapp2.hqda.pentagon.mil/perdiem/perdiemrates.html” and adding “http://www.defensetravel.dod.mil/site/perdiemCalc.cfm” in its place.

§ 301-11.7 [Amended]

9-10. Amend § 301-11.7, second sentence, by removing “location” and adding “facility” in its place.

§ 301-11.18 [Amended]

11. Amend § 301-11.18 paragraph (a) by adding “For meals provided on the day of departure and the last day of travel, you must deduct the entire allocated meal cost from the decreased M&IE rate (see § 301-11.101).” after “OCONUS and foreign travel.”

12. Amend § 301-11.26—

a. By revising the section heading;

b. By removing “agency” and adding “agency's Travel Manager” in its place whenever it appears (two times);

c. In the first sentence, by removing “surveyed” and adding “reviewed” in its place; and

d. In the second sentence, by removing “survey” and adding “review” in its place.

The revised text reads as follows:

§ 301-11.26 How do I request a review of the per diem in a location?

* * * * *

13. Amend § 301-11.29 by revising the second sentence to read as follows:

§ 301-11.29 Are lodging facilities required to accept a generic federal, state or local tax exempt certificate?

* * * The GSA SmartPay® Program Support office provides more information regarding state tax exemptions on its Web site (https://smartpay.gsa.gov/about-gsa-smartpay/tax-information/state-response-letter) and by e-mail (gsa_smartpay@gsa.gov).

§ 301-11.30 [Amended]

14. Amend § 301-11.30 by—

a. Designating the first and second paragraphs as paragraph (a) and paragraph (b) respectively; and

b. Adding at the end of newly-designated paragraph (b) “Also, see § 301-70.201 for when an agency can issue a blanket actual expense authorization”.

15. Amend § 301-11.300—

a. In paragraph (b) by adding “or manmade” after “natural”;

b. By redesignating paragraphs (c) and (d) as paragraphs (d) and (e), respectively; and

c. By adding a new paragraph (c) to read as follows:

§ 301-11.300 When is actual reimbursement warranted?

* * * * *

(c) The TDY location is subject to a Presidentially-Declared Disaster and your agency has issued a blanket actual expense authorization for the location (see § 301-70.201);

* * * * *

§ 301-11.301 [Amended]

16. Amend § 301-11.301 by adding “(see § 301-70.201 for when an agency can issue a blanket actual expense authorization)” after “your agency”.

§ 301-11.302 [Amended]

17. Amend § 301-11.302 by adding “Also, your agency can issue a blanket actual expense authorization under § 301-70.201.” after the last sentence.

PART 301-52—CLAIMING REIMBURSEMENT

18. The authority citation for 41 CFR part 301-52 continues to read as follows:

Authority: 5 U.S.C. 5707; 40 U.S.C. 121(c); Sec. 2., Pub. L. 105-264, 112 Stat. 2350 (5 U.S.C. 5701 note).

19. Amend § 301-52.4 by revising paragraph (b)(1) to read as follows:

§ 301-52.4 What must I provide with my travel claim?

* * * * *

(b) * * *

(1) Any lodging expense;

* * * * *

PART 301-70—INTERNAL POLICY AND PROCEDURE REQUIREMENTS

20. The authority citation for 41 CFR part 301-70 continues to read as follows:

Authority: 5 U.S.C. 5707; 40 U.S.C. 121(c); Sec. 2, Pub. L. 105-264, 112 Stat. 2350 (5 U.S.C. 5701, note), OMB Circular No. A-126, revised May 22, 1992, and OMB Circular No. A-123, Appendix B, revised January 15, 2009.

§ 301-70.200 [Amended]

21. Amend § 301-70.200 paragraph (f) by removing “actual expenses are appropriate in each individual case” and adding “to issue a blanket authorization for actual expenses under § 301-70.201 or when actual expenses are appropriate in individual cases” in its place.

22. Add § 301-70.201 to part 301-70, subpart C, to read as follows:

§ 301-70.201 May we issue a blanket actual expense authorization for our employees during a Presidentially-Declared Disaster?

Yes. A blanket authorization regarding actual expense reimbursement may be issued to your employees assigned to perform TDY travel in an area subject to a Presidentially-Declared Disaster. These authorizations must apply to a specific Declaration, and must end on the expiration date of the Declaration, or one year from the date the Declaration is issued, whichever is sooner. A blanket authorization issued under this section shall not apply to any travel performed pursuant to Chapter 302 of this title.

PART 301-71—AGENCY TRAVEL ACCOUNTABILITY REQUIREMENTS

23. The authority citation for 41 CFR part 301-71 continues to read as follows:

Authority: 5 U.S.C. 5707; 40 U.S.C. 121(c); Sec. 2, Pub. L. 105-264, 112 Stat. 2350 (5 U.S.C. 5701 note).

§ 301-71.105 [Amended]

24. Amend § 301-71.105 paragraph (j) by adding “(see § 301-70.201 for when you may issue a blanket actual expense authorization)” after “expenses”.

[FR Doc. 2011-22676 Filed 9-6-11; 8:45 am]

BILLING CODE 6820-14-P